DEPARTMENT OF TRANSPORTATION

Federal Aviation Administration

14 CFR Part 71

[Docket No. FAA-2013-0817; Airspace Docket No. 13-AWP-14]

RIN 2120-AA66

Amendment of Class D Airspace; Kwajalein Island, Marshall Islands, RMI

AGENCY: Federal Aviation Administration (FAA), DOT.

ACTION: Final rule, technical amendment.

SUMMARY: This action amends the Kwajalein Island Class D airspace description by amending the geographic coordinates for Bucholz Army Airfield (AAF), Kwajalein Island, Marshall Islands, RMI. The Bucholz AAF geographic coordinates information was updated in the Kwajalein Island Class E airspace descriptions in 2011, but was inadvertently overlooked in the Kwajalein Island Class D airspace description. This action ensures the safety of aircraft operating in the Kwajalein Island airspace area. This is an administrative action and does not affect the operating requirements of the airspace.

DATES: Effective date 0901 UTC, December 12, 2013. The Director of the Federal Register approves this incorporation by reference action under 1 CFR part 51, subject to the annual revision of FAA Order 7400.9 and publication of conforming amendments.

FOR FURTHER INFORMATION CONTACT: Colby Abbott, Airspace Policy and ATC Procedures Group, Office of Airspace Services, Federal Aviation Administration, 800 Independence Avenue SW., Washington, DC 20591; telephone: (202) 267-8783.

SUPPLEMENTARY INFORMATION:

History

In 2010, the FAA published a final rule, technical amendment in the Federal Register (75 FR 61993, October 7, 2010) that removed reference to the decommissioned Kwajalein Tactical Air Navigation (TACAN) navigation aid from the Kwajalein Island Class E airspace area legal descriptions. Subsequent to that rule being published, it was determined that the Bucholz AAF geographic coordinates were in error. As a result, the FAA published a final rule, correction in the Federal Register (76 FR 2572, January 14, 2011) to correcting the Bucholz AAF geographic coordinates information in the Kwajalein Island Class E airspace descriptions and to match the FAA's aeronautical database. Unfortunately, consideration for correcting the Bucholz AAF geographic coordinates in the Kwajalein Island Class D airspace description was overlooked at that time and is now being corrected.

The Rule

This action amends Title 14 Code of Federal Regulations (CFR) part 71 by amending the geographic coordinates for Bucholz AAF in the Kwajalein Island, Marshall Islands, RMI, Class D airspace legal description to reflect current FAA aeronautical database information. The geographic coordinates for Bucholz AAF, are changed from (lat. 08°43′00″ N., long. 167°44′00″ E) to (lat. 08°43′12″ N., long. 167°43′54″ E.) This action more accurately depicts the center of the Kwajalein Island Class D airspace area with no other changes to the dimensions or altitudes of the Class D airspace area. Therefore, notice and public procedures under 5 U.S.C. 553(b) are unnecessary.

Class D airspace areas are published in paragraph 5000 of FAA Order 7400.9X dated August 7, 2013, and effective September 15, 2013, which is incorporated by reference in 14 CFR 71.1. The Class D airspace area listed in this action will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends Class D airspace at Kwajalein Island, Marshall Islands, RMI.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of FAA Order 7400.9X, Airspace Designations and Reporting Points, signed August 7, 2013, and effective September 15, 2013, is amended as follows:

Paragraph 5000—Class D Airspace

* * * * *

AWP RM D Kwajalein Island, Marshall Islands, RMI

Kwajalein Island, Bucholz AAF, RMI

(Lat. 08°43′12″ N., long. 167°43′54″ E.)

That airspace extending upward from the surface to and including 2,500 feet MSL within a 4.3-mile radius of the Bucholz AAF. This Class D airspace area is effective during the specific dates and times established in advance by a Notice to Airmen. The effective date and time will thereafter be continuously published in the Pacific Chart Supplement.

* * * * *

Issued in Washington, DC, September 24, 2013.
Gary A. Norek,
Manager, Airspace Policy and ATC Procedures Group.

[FR Doc. 2013-24976 Filed 10-24-13; 8:45 am]

BILLING CODE 4910-13-P